DEPARTMENT OF LABOR

Employment and Training Administration

[TA-W-63,874]

Northern Technologies, Spokane Valley, WA; Notice of Termination of Investigation

In accordance with Section 221 of the Trade Act of 1974, as amended, an investigation was initiated on August 14, 2008 in response to a petition filed by a company official on behalf of workers of Northern Technologies, Inc., Spokane Valley, Washington.

The petitioner has requested that the petition be withdrawn. Consequently, the investigation has been terminated.

Signed in Washington, DC, this 8th day of October 2008.
Richard Church,
Certifying Officer, Division of Trade Adjustment Assistance.

[FR Doc. E8-24864 Filed 10-17-08; 8:45 am]

BILLING CODE 4510-FN-P